DEPARTMENT OF THE TREASURY

Submission for OMB Review; Comment Request

January 22, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 4, 2004, to be assured of consideration.

Bureau of the Public Debt (PD)

OMB Number: 1535-0120.

Form Number: PD F 5366, PD F 5354 and PD F 5367.

Type of Review: Extension.

Title: FHA New Account Request, Transaction Request, and Transfer Request.

Description: Used to establish account, change information on account, and transfer ownership.

Respondents: Individuals or households, business or other for-profit.

Estimated Number of Respondents: 600.

Estimated Burden Hours Per Respondent: 10 minutes.

Frequency of Response: On occasion.

Estimated Total Reporting Burden Hours: 102 hours.

Clearance Officer: Vicki S. Thorpe, (304) 480-6553, Bureau of the Public Debt, 200 Third Street, Parkersburg, West VA 26106-1328.

OMB Reviewer: Joseph F. Lackey, Jr., (202) 395-7316, Office of Management and Budget, Room 10235, New Executive Office Building, Washington, DC 20503.

Lois K. Holland,
Departmental Reports, Management Officer.

[FR Doc. 04-2141 Filed 2-2-04; 8:45 am]

BILLING CODE 4810-39-P